DEPARTMENT OF VETERANS AFFAIRS

Veteran's Disability Benefits Commission; Notice of Meeting

The Department of Veterans Affairs (VA) gives notice under Public Law 92-463 (Federal Advisory Committee Act) that the Veterans' Disability Benefits Commission has scheduled a meeting for May 18-19, 2006, at the Holiday Inn National Airport, 2650 Jefferson Davis Highway, Arlington, VA. The meeting will begin each day at 8 a.m. On May 18, the meeting will end at 5 p.m., and on May 19 the meeting will end at 3 p.m. The meeting is open to the public.

The purpose of the Commission is to carry out a study of the benefits under the laws of the United States that are provided to compensate and assist veterans and their survivors for disabilities and deaths attributable to military service.

The agenda for the session on May 18 will include an overview of the Department of Veterans Affairs National Compensation and Pension Exam Program located in Nashville, Tennessee, with additional briefings by QTC, Veterans Benefits Administration and Veterans Health Administration to address the process, quality, timeliness and cost of compensation and pension examinations. The agenda will also feature a report of the Commission's site visits to Illinois and Missouri, and the Government Accountability Office will present its findings of the disability benefits available to Federal, state and local employees who serve the public in high-risk occupants and are injured in the line of duty. The agenda for the session on May 19 will feature updates on the progress of the studies being conducted by the Institute of Medicine (IOM) and the Center for Naval Analyses (CNA), to include the results of CNA's literature review, and a continuing discussion of Social Security Disability Income.

Interested persons may attend and present oral statements to the Commission. Oral presentations will be limited to five minutes or less, depending on the number of participants. Interested parties may provide written comments for review by the Commission prior to the meeting, by e-mail to veterans@vetscommission.intranets.com or by mail to Mr. Ray Wilburn, Executive Director, Veterans' Disability Benefits Commission, 1101 Pennsylvania Avenue, NW., 5th Floor, Washington, DC 20004.

Dated: April 13, 2006.
By Direction of the Secretary.
E. Philip Riggin,
Committee Management Officer.

[FR Doc. 06-3753 Filed 4-19-05; 8:45 am]

BILLING CODE 8320-01-M